DEPARTMENT OF COMMERCE

National Institute of Standards and Technology

Visiting Committee on Advanced Technology

AGENCY: National Institute of Standards and Technology, Department of Commerce.

ACTION: Notice of partially closed meeting.

SUMMARY: The Visiting Committee on Advanced Technology (VCAT), National Institute of Standards and Technology (NIST), will meet Tuesday, February 1, 2011, from 8:30 a.m. to 5 p.m. and Wednesday, February 2, 2011, from 8:30 a.m. to 2 p.m. The Visiting Committee on Advanced Technology is composed of fifteen members appointed by the Director of NIST who are eminent in such fields as business, research, new product development, engineering, labor, education, management consulting, environment, and international relations.

DATES: The VCAT will meet on Tuesday, February 1, 2011, from 8:30 a.m. to 5 p.m. and Wednesday, February 2, 2011, from 8:30 a.m. to 2 p.m. The portion of the meeting that is closed to the public will take place on Wednesday, February 2, 2011, from 8:30 a.m. to 10:45 a.m.

ADDRESSES: The meeting will be held in the Portrait Room, Administration Building, at NIST, Gaithersburg, Maryland. Please note admittance instructions under the SUPPLEMENTARY INFORMATION section of this notice.

FOR FURTHER INFORMATION CONTACT: Stephanie Shaw, Visiting Committee on Advanced Technology, National Institute of Standards and Technology, Gaithersburg, Maryland 20899-1060, telephone number (301) 975-2667. Ms. Shaw's e-mail address is stephanie.shaw@nist.gov.

SUPPLEMENTARY INFORMATION:

Authority: 15 U.S.C. 278.

The purpose of this meeting is to review and make recommendations regarding general policy for the Institute, its organization, its budget, and its programs within the framework of applicable national policies as set forth by the President and the Congress. The first day's agenda will include an update on NIST, including presentations on operational and management issues covering changes to the Congressional landscape and their likely priorities and impact to NIST, the final report of the Blue Ribbon Commission on Management and Safety II, and policy changes for Foreign National Guest Researchers, as well as updates on new NIST activities and programs related to the National Strategy for Trusted Identities in Cyberspace, Cloud Computing, Public Safety Communications and the 700 Megahertz Testbed, and the National Advisory Council on Innovation and Entrepreneurship. The first day will conclude with a discussion of the VCAT focus for 2011 and a session for the VCAT to begin to draft its initial observations, findings, and recommendations for its 2010 Annual Report. During a closed session on February 2 from 8:30 a.m. until 10:45 a.m., the VCAT will discuss sensitive internal planning information about NIST programs. During the open session on February 2, the VCAT will continue its preparation of the 2010 Annual Report followed by a presentation of the initial observations, findings and recommendations. The agenda may change to accommodate Committee business. The final agenda will be posted on the NIST Web site at http://www.nist.gov/director/vcat/agenda.htm.

The Assistant Secretary for Administration, with the concurrence of the General Counsel, formally determined on January 6, 2011, that portions of the meeting of the VCAT that involve discussions regarding information the premature disclosure of which would be likely to significantly frustrate implementation of a proposed agency action may be closed in accordance with 5 U.S.C. 552b(c)(9)(B). The closed portion of the meeting is scheduled to begin at 8:30 a.m. and to end at 10:45 a.m. on February 2, 2011. All other portions of the meeting will be open to the public.

Individuals and representatives of organizations who would like to offer comments and suggestions related to the Committee's affairs are invited to request a place on the agenda. On February 1, 2011, approximately one-half hour will be reserved in the afternoon for public comments, and speaking times will be assigned on a first-come, first-serve basis. The amount of time per speaker will be determined by the number of requests received, but is likely to be about 3 minutes each. The exact time for public comments will be included in the final agenda that will be posted on the NIST Web site at http://www.nist.gov/director/vcat/agenda.htm. Questions from the public will not be considered during this period. Speakers who wish to expand upon their oral statements, those who had wished to speak but could not be accommodated on the agenda, and those who were unable to attend in person are invited to submit written statements to the VCAT, National Institute of Standards and Technology, 100 Bureau Drive, MS 1060, Gaithersburg, Maryland 20899, via fax at 301-216-0529 or electronically by e-mail to gail.ehrlich@nist.gov.

All visitors to the NIST site will have to pre-register to be admitted. Please submit your name, time of arrival, e-mail address and phone number to Stephanie Shaw no later than Friday, January 28, 2011, and she will provide you with instructions for admittance. Ms. Shaw's e-mail address is stephanie.shaw@nist.gov and her phone number is (301) 975-2667.

Dated: January 7, 2011.
Charles H. Romine,
Acting Associate Director for Laboratory Programs.

[FR Doc. 2011-817 Filed 1-13-11; 8:45 am]

BILLING CODE 3510-13-P